NATIONAL SCIENCE FOUNDATION

Notice of Intent To Seek Approval To Establish an Information Collection

AGENCY: National Science Foundation.

ACTION: Notice and request for comments.

SUMMARY: Under the Paperwork Reduction Act of 1995, and as part of its continuing effort to reduce paperwork and respondent burden, the Office of Integrative Activities (OIA), National Science Foundation (NSF) is inviting the general public or other Federal agencies to comment on this proposed information collection.

DATES: Written comments on this notice must be received by May 30, 2025, to be assured consideration. Comments received after that date will be considered to the extent practicable. Send comments to the address below.

FOR FURTHER INFORMATION CONTACT: Suzanne H. Plimpton, Reports Clearance Officer, National Science Foundation, 2415 Eisenhower Avenue, Suite E7400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including federal holidays).

Comments: Comments are invited on: (a) whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

SUPPLEMENTARY INFORMATION:

Title of Collection: Structured interviews and focus groups to support formative evaluation planning for the NSF Growing Research Access for Nationally Transformative Economic Development (GRANTED) program.

OMB Number: 3145-NEW.

Expiration Date of Approval: Not applicable.

Type of Request: New information collection.

Description: A series of structured interviews and focus groups with research administrators from Institutions of Higher Education (IHE) and professional societies are proposed as two data sources for the evidence-based design of a formative evaluation of the NSF Growing Research Access for Nationally Transformative Economic Development (GRANTED) Program. The overarching goal of this project is to design an evaluation that reflects an understanding of the context and environment in which IHEs operate and a framework that identifies strategies and practices that can build research support capacity.

Background: In FY 2023, NSF launched a research capacity-building initiative, Growing Research Access for Nationally Transformative Economic Development (GRANTED), to support IHEs across the research enterprise. The GRANTED program differs from other NSF capacity-building programs by investing in the development of institutional research support services and infrastructure. Examples of these services and infrastructure include helping to identify funding opportunities, developing compliant and competitive proposals, and managing financial and effort reporting requirements. By contrast, other NSF capacity-building programs invest in the development of faculty and students who perform research.

The GRANTED program emerged out of a recognition that having a great research idea and a capable team are necessary but insufficient factors to developing an institution's capacity to win new grants and develop a thriving research environment. The GRANTED program, which has an open call for proposals with no proscribed annual deadline for submission, focuses on eight sectors listed below:

• Research Administration

• Research Integrity/Compliance

• Research Leadership

• Research Policy

• Research Development

• Management of Student Research Training

• Corporate Relations

• Technology Commercialization

As a first step, the study will conduct a literature review to analyze the types of research support and services provided at U.S. higher education institutions. Second, the study will provide a road map for a formative program evaluation, along with a feasibility memo of what data can be used for the evaluation. The guiding research questions for this work are:

1. What is the current state of the research support and service infrastructure in institutions of higher education as it relates to human capital, practices, policies, and partnerships?

a. What are promising practices to improve such research support and service infrastructure?

b. What outcomes are associated with different research support operating models, different levels of organizational maturity, and/or different levels of research infrastructure support?

2. What is a feasible formative evaluation, guided by a logic model, that best provides tools, insights, assessments, and strategies to monitor and improve the GRANTED program?

The proposed interviews and focus groups will be conducted to analyze: (1) how institutional mission and strategy align with research support capacity and institutional investment, (2) the type of infrastructure in place to support research development, pre-award and post-award administration, compliance, etc., (3) research support and service infrastructure impediments to performing more research, and (4) where research administrators go to learn more about best practices in research administration support and troubleshooting.

Methodology: The study proposes to conduct 25 interviews and 10-12 focus groups with 5-7 participants each with research administrators at institutions of higher education. Examples of the types of individuals who would be invited to participate include Vice Presidents for Research, Assistant Deans for Research, Senior Research Development Officers, Directors of Sponsored Programs, other Office of Sponsored Programs staff, and individuals in leadership positions at professional organizations associated with research development and support.

For both the interviews and the focus groups, the study expects to select a single sample of 100 higher education institutions. The sample will include institutions that have been awarded funding through the GRANTED program and institutions that have not received GRANTED funding. The stratified random sample will reflect a variety of institutions in terms of Carnegie Classification of research activity, i.e., amount of research performed, and broad geographic location, e.g., four Census regions. Once these institutions are sampled, the project team will contact institutional administrators at the selected institutions to identify appropriate individuals to participate.

Feedback collected under this clearance will provide useful information for a future evaluation of the GRANTED program. In addition to the interviews and focus groups, other data sources that the study is using to inform the evaluation design include a literature review and an exploration of existing federal and non-federal data collections that might be used to measure GRANTED program impacts.

Affected Public: The targeted participants are individuals who serve as Vice Presidents for Research, Assistant Deans for Research, Senior Research Development Officers, Directors of Sponsored Programs, other Office of Sponsored Programs staff, and individuals in leadership positions at research administration and development professional organizations.

Average Expected Annual Number of Activities: For each collection method, we anticipate the following lower and upper bounds for the numbers of responses and response burdens by collection method:

Collection method | Category of respondent | Estimated lower bound (number of responses) | Estimated upper bound (number of responses) | Estimated average response time (min) | Frequency of data collection | Approximate lower bound response burden (hours) | Approximate upper bound response burden (hours)
Interviews | Individual research administrators | 20 | 25 | 30 | Once | 10 | 12.5
Focus groups | Individual research administrators | 50 | 75 | 45 | Once | 37.5 | 56.25

Respondents: Interviews Lower bound estimate of 20 individuals and upper bound estimate of 25 conducted once during the project. For the focus groups, lower bound estimate of 50 individuals and upper bound estimate of 75 individuals conducted once during the project.

Annual Responses: The data will be collected in a single 3- to 6-month period. The lower and upper bound response estimates are 70 and 100, respectively.

Frequency of Response: Please refer to the description of programmatic categories for frequency of data collection.

Average Minutes per Response: 30 minutes for interviews, 45 minutes for focus groups.

Burden Hours: Lower and upper bound estimates of approximately 47.5 hours and 68.75 hours, respectively.

Dated: March 26, 2025.
Suzanne H. Plimpton,
Reports Clearance Officer, National Science Foundation.

[FR Doc. 2025-05503 Filed 3-28-25; 8:45 am]

BILLING CODE 7555-01-P